DEPARTMENT OF ENERGY

Federal Energy Regulatory Commission

Combined Notice of Filings #1

Take notice that the Commission received the following electric corporate filings:

Docket Numbers: EC21-63-000.

Applicants: Effingham County Power, LLC.

Description: Application for Authorization Under Section 203 of the Federal Power Act of Effingham County Power, LLC.

Filed Date: 3/3/21.

Accession Number: 20210303-5205.

Comments Due: 5 p.m. ET 3/24/21.

Take notice that the Commission received the following electric rate filings:

Docket Numbers: ER21-1264-000.

Applicants: Duke Energy Indiana, LLC.

Description: § 205(d) Rate Filing: 2021 Annual Reconciliation Filing to be effective 7/1/2020.

Filed Date: 3/3/21.

Accession Number: 20210303-5161.

Comments Due: 5 p.m. ET 3/24/21.

Docket Numbers: ER21-1265-000.

Applicants: PJM Interconnection, L.L.C.

Description: § 205(d) Rate Filing: Original Service Agreement No. 5981; Queue No. AG1-386 to be effective 2/9/2021.

Filed Date: 3/3/21.

Accession Number: 20210303-5168.

Comments Due: 5 p.m. ET 3/24/21.

Docket Numbers: ER21-1266-000.

Applicants: California Independent System Operator Corporation.

Description: § 205(d) Rate Filing: 2021-03-03 Variable Operations and Maintenance Tariff Revisions to be effective 5/17/2021.

Filed Date: 3/3/21.

Accession Number: 20210303-5187.

Comments Due: 5 p.m. ET 3/24/21.

Docket Numbers: ER21-1269-000.

Applicants: PJM Interconnection, L.L.C.

Description: § 205(d) Rate Filing: Amendment to ISA, SA No. 3836; Queue No. Z1-050 (amend) to be effective 4/30/2014.

Filed Date: 3/4/21.

Accession Number: 20210304-5033.

Comments Due: 5 p.m. ET 3/25/21.

Docket Numbers: ER21-1270-000.

Applicants: Alabama Power Company.

Description: Initial rate filing: Raybun Gap Enhanced Reliability Upgrade Construction Agreement Filing to be effective 2/23/2021.

Filed Date: 3/4/21.

Accession Number: 20210304-5093.

Comments Due: 5 p.m. ET 3/25/21.

Docket Numbers: ER21-1271-000.

Applicants: Georgia Power Company.

Description: Initial rate filing: Raybun Gap Enhanced Reliability Upgrade Construction Agreement Filing to be effective 2/23/2021.

Filed Date: 3/4/21.

Accession Number: 20210304-5094.

Comments Due: 5 p.m. ET 3/25/21.

Docket Numbers: ER21-1272-000.

Applicants: Mississippi Power Company.

Description: Initial rate filing: Raybun Gap Enhanced Reliability Upgrade Construction Agreement Filing to be effective 2/23/2021.

Filed Date: 3/4/21.

Accession Number: 20210304-5095.

Comments Due: 5 p.m. ET 3/25/21.

Docket Numbers: ER21-1273-000.

Applicants: Oleander Power Project, Limited Partnership.

Description: Baseline eTariff Filing: Oleander Power Project, Limited Partnership PPA with Seminole to be effective 1/1/2022.

Filed Date: 3/4/21.

Accession Number: 20210304-5109.

Comments Due: 5 p.m. ET 3/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2021.
Nathaniel J. Davis, Sr.,
Deputy Secretary.

[FR Doc. 2021-04969 Filed 3-9-21; 8:45 am]

BILLING CODE 6717-01-P